DEPARTMENT OF THE INTERIOR

Bureau of Land Management

[UT-020-1220-MA]

Establishment of Special Recreation Management Special Recreation Permit Fee Area, and Interim Final Supplementary Rules on Public Lands Within the Knolls Special Recreation Management Area Managed by the Salt Lake Field Office, UT

AGENCY: Bureau of Land Management, Interior.

ACTION: Establishment of Special Recreation Management Special Recreation Permit Fee Area, and Interim Final Supplementary Rules with request for comments.

SUMMARY: In accordance with the Knolls Recreation Area Management Plan, the Bureau of Land Management (BLM), Salt Lake Field Office, is establishing a special recreation permit fee area, and issuing interim final supplementary rules and requesting comments. These interim final supplementary rules will apply to public lands within the Knolls Special Recreation Management Area (SRMA) and will be effective until the publication of a final supplementary rule. The BLM has determined these interim final supplementary rules are necessary to enhance the safety of visitors, protect natural resources, improve recreation opportunities, and protect public health.

DATES: The interim final supplementary rules are effective September 2, 2005. We invite comments until November 1, 2005.

ADDRESSES: Mail or hand deliver all comments concerning the interim final supplementary rules to the Bureau of Land Management, Salt Lake Field Office, 2370 S. 2300 W. Salt Lake City, Utah 84119 or e-mail comments to Mail_UT-Salt_Lake@ut.blm.gov.

FOR FURTHER INFORMATION CONTACT: Mandy Rigby, Outdoor Recreation Planner, 2370 S. 2300 W. Salt Lake City, Utah 84119, 801-977-4300.

SUPPLEMENTARY INFORMATION:

I. Public Comment Procedures

Written comments on the interim final supplementary rules should be specific, confined to issues pertinent to the interim final supplementary rules, and should explain the reason for any recommended change. Where possible, comments should reference the specific section or paragraph of the proposal which the comment is addressing. BLM may not necessarily consider or include in the Administrative Record for the final rule comments that BLM receives after the close of the comment period (see DATES), unless they are postmarked or electronically dated before the deadline, or comments delivered to an address other than those listed above (See ADDRESSES).

Comments, including names, street addresses, and other contact information of respondents, will be available for public review at the Salt Lake Field Office, 2370 S. 2300 W. Salt Lake City, Utah 84119, during regular business hours (7:45 a.m. to 3:45 p.m.), Monday through Friday, except Federal holidays. Individual respondents may request confidentiality. If you wish to request that BLM consider withholding your name, street address, and other contact information (such as: Internet address, fax or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Background

The BLM is establishing these interim final supplementary rules under the authority of 43 CFR 8365.1-6, which allows BLM State Directors to establish such rules for the protection of persons, property, and public lands and resources. This provision allows the BLM to issue rules of less than national effect without codifying the rules in the Code of Federal Regulations. Upon completion, the rules will be available for inspection in the Salt Lake Field Office; the rules will be posted at the Knolls Special Recreation Management Area; and they will be published in a newspaper of general circulation in the affected vicinity. The overall program authority for the operation of this recreation site is found in sections 302 and 310 of the Federal Land Policy and Management Act of 1976 (43 U.S.C. 1732, 1740).

BLM finds good cause to publish these supplementary rules on an interim final basis, effective the date of publication, because of health and safety concerns due to current off-highway vehicle use within the Knolls SRMA. A high amount of visitation is occurring within the SRMA, which has led to numerous safety concerns including, but not limited to: glass and campfire remains left in sand dune areas, target shooting, use of dangerous motorcycle jumps, and excessive motor vehicle speed on maintained roads.

The Knolls SRMA will be established as a fee site requiring the issuance of individual Special Recreation Permits. The permit requirement and an associated fee payment under 43 CFR 2932.31 will be enforced beginning on March 1, 2006.

The public has been extensively involved in planning for the management of the area through the Knolls Recreation Area Management Plan (RAMP) process and review under National Environmental Policy Act (NEPA). The Knolls RAMP includes a list of the supplementary rules that are to be published concerning rules of conduct for public use within the SRMA. With the exception of the prohibition of ramps and jumps without a permit (see Section II.2 [l] below), all of the interim final supplementary rules were identified in the RAMP. The prohibition against jumps and ramps is a result of recent incidents of these structures being constructed on sand dunes in the SRMA, whose use can result in serious injuries and death. The comment period for these interim final supplementary rules will allow the public to comment on this additional supplementary rule, as well as the supplementary rules discussed in the RAMP.

The Salt Lake Field Office has taken the following steps to involve the public in planning for the area and developing the policies contained in the interim final supplementary rules:

• As part of the NEPA process, we published public notice of the initiation of the Knolls RAMP and the environmental review process on July 11, 2003.

• In February 2004, members of the public, affected agencies, and interested organizations were notified of the completion of Draft Knolls RAMP. Several methods were used to solicit review and comments including the mailing of copies of the Draft RAMP, a news release issued in local papers and on the Internet, and a mass mailing of informational postcards.

• An open house meeting was conducted on February 24, 2004. Those attending included members of the public, representatives from state and Federal agencies, and off-highway vehicle clubs and organizations.

• Comments were accepted through mail, personal delivery, or by e-mail. The Draft Knolls RAMP was available for review at the Field Office or on the Internet until March 2004. Comments received were responded to in the Final Knolls RAMP completed in July 2004.

Under these circumstances, the BLM finds good cause to issue these interim final supplementary rules to allow for the protection of public health and safety. The public is now invited to provide additional comments on the interim final supplementary rules. See the DATES and ADDRESSES sections for information on submitting comments.

III. Procedural Matters

Executive Order 12866, Regulatory Planning and Review

These interim final supplementary rules are not a significant regulatory action and are not subject to review by the Office of Management and Budget under Executive Order 12866. These interim final supplementary rules will not have an effect of $100 million or more on the economy. They are not intended to affect commercial activity, but contain rules of conduct for public use of a certain recreational area. They will not adversely affect, in a material way, the economy, productivity, competition, jobs, the environment, public health or safety, or state, local, or Tribal governments or communities. These interim final supplementary rules will not create a serious inconsistency or otherwise interfere with an action taken or planned by another agency. The interim final supplementary rules do not alter the budgetary effects of entitlements, grants, user fees, or loan programs or the right or obligations of their recipients; nor do they raise novel legal or policy issues. They mere impose certain rules on recreational activities on a limited portion of the public lands in Utah in order to protect human health, safety, and the environment.

Clarity of the Interim Final Supplementary Rules

Executive Order 12866 requires each agency to write regulations that are simple and easy to understand. We invite your comments on how to make these interim final supplementary rules easier to understand, including answers to questions such as the following:

(1) Are the requirements in the interim final supplementary rules clearly stated?

(2) Do the interim final supplementary rules contain technical language or jargon that interferes with their clarity?

(3) Does the format of the interim final supplementary rules (grouping and order of sections, use of headings, paragraphing, etc.) air or reduce their clarity?

(4) Would the interim final supplementary rules be easier to understand if they were divided into more (but shorter) sections?

(5) Is the description of the interim final supplementary rules in the SUPPLMENTARY INFORMATION section of this preamble helpful in understanding the interim final supplementary rules? How could this description be more helpful in making the interim final supplementary rules easier to understand?

Please send any comments you have on the clarity of the interim final supplementary rules to the address specified in the ADDRESSES section.

National Environmental Policy Act

BLM has prepared an environmental assessment (EA) and has found that the interim final supplementary rules would not constitute a major Federal action significantly affecting the quality of the human environment under section 102(2)(C) of the National Environmental Policy Act of 1969 (NEPA), 42 U.S.C. 4332(2)(C). The interim final supplementary rules merely contain rules of conduct for the Knolls SRMA. These rules are designed to protect the environment and the public health and safety. A detailed statement under NEPA is not required. BLM has placed the EA and the Finding of No Significant Impact (FONSI) on file in the BLM Administrative Record at the address specified in the ADDRESSES section.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The interim final supplementary rules do not pertain specifically to commercial or governmental entities of any size, but to public recreational use of specific public lands. Therefore, BLM has determined under the RFA that these interim final supplementary rules would not have a significant economic impact on a substantial number of small entities.

Small Business Regulatory Enforcement Fairness Act (SBREFA)

These interim final supplementary rules do not constitute a “major rule” as defined at 5 U.S.C. 804(2). The interim final supplementary rules merely contain rules of conduct for recreational use of certain public lands. The interim final supplementary rules have no effect on business, commercial, or industrial use of the public lands.

Unfunded Mandates Reform Act

These interim final supplementary rules do not impose an unfunded mandate on state, local, or Tribal governments or the private sector of more than $100 million per year; nor do these interim final supplementary rules have a significant or unique effect on state, local, or tribal governments or the private sector. The interim final supplementary rules do not require anything of state, local, or Tribal governments. Therefore, BLM is not required to prepare a statement containing the information required by the Unfunded Mandates Reform Act (2 U.S.C. 1531 et seq.).

Executive Order 12630, Governmental Actions and Interference With Constitutionally Protected Property Rights (Takings)

The interim final supplementary rules do not represent a government action capable of interfering with constitutionally protected property rights. The interim final supplementary rules do not address property rights in any form, and do not cause the impairment of anybody's property rights. Therefore, the Department of the Interior has determined that these interim final supplementary rules would not cause a taking of private property or require further discussion of takings implications under this Executive Order.

Executive Order 13132, Federalism

The interim final supplementary rules will not have a substantial direct effect on the states, on the relationship between the national government and the states, or on the distribution of power and responsibilities among the various levels of government. The interim final supplementary rules affect land in only one state, Utah, and do not address jurisdictional issues involving the state government. Therefore, in accordance with Executive Order 13132, BLM has determined that these interim final supplementary rules do not have sufficient Federalism implications to warrant preparation of a Federalism Assessment.

Executive Order 12988, Civil Justice Reform

Under Executive Order 12988, the Office of the Solicitor has determined that these interim final supplementary rules will not unduly burden the judicial system and that they meet the requirements of sections 3(a) and 3(b)(2) of the Order.

Consultation and Coordination With Indian Tribal Governments (E.O. 13175)

In accordance with Executive Order 13175, we have found that these interim final supplementary rules do not include policies that have Tribal implications. The interim final supplementary rules do not affect lands held for the benefit of Indians, Aleuts, or Eskimos.

Paperwork Reduction Act

These interim final supplementary rules do not contain information collection requirements that the Office of Management and Budget must approve under the Paperwork Reduction Act, 44 U.S.C. 3501 et seq.

Author

The principal author of these interim final supplementary rules is Mandy Rigby, Outdoor Recreation Planner, Salt Lake Field Office, Bureau of Land Management.

Interim Final Supplementary Rules for the Knolls Special Recreation Management Area

Sec. 1 Definitions

Knolls Special Recreation Management Area (SRMA). The Knolls SRMA encompasses public lands located in:

T. 1 S., R. 12 W., SLM, Secs. 19-23 south of the railroad grade, and 26-35.

T. 2 S., R. 12 W., SLM, Secs. 2-11, and 14-18.

T. 1 S., R. 13 W., SLM, Secs. 19-24 south of the railroad grade, and 25-36.

T. 2 S., R. 13 W., SLM, Secs. 1-13.

Off-highway vehicle. Any motorized vehicle capable of, or designed for, travel on or immediately over land, water, or other natural terrain, excluding: (1) Any nonamphibious registered motorboat; (2) Any military, fire, emergency, or law enforcement vehicle being used for emergency purposes; (3) Any vehicle whose use is expressly authorized by the authorized officer, or otherwise officially approved; (4) Vehicles in official use; and (5) Any combat or combat support vehicle when used in times of national defense emergencies.

Primary vehicle: A street legal vehicle used for transportation to the recreation site.

Dangerous weapon(s): Any weapon that in the manner of its use, or intended use, is capable of causing death or serious bodily injury.

Sec. 2 Prohibited Acts

a. You must not discharge or use firearms or other dangerous weapons for the purpose of target shooting. This does not include the discharge of firearms or dangerous weapons while person(s) are engaged in bona fide hunting activities during established hunting seasons and are properly licensed for these activities.

b. You must not use or possess to use any glass containers outside of enclosed vehicles, camp trailers, or tents.

c. You must not use or possess to use as firewood any materials containing nails, screws, or other metal hardware, including, but not limited to, wood pallets and/or construction debris.

d. You must not use an accelerant for the purposes of igniting a campfire. However, you may ignite any campfire or other material used for cooking purposes, by using any commercially purchased charcoal igniter or other non-hazardous fuels.

e. You must not drive a motor vehicle through any campfire, or through any flaming debris or other flaming material(s).

f. You must not burn any potentially hazardous material including, but not limited to, gasoline, oil, plastic, and magnesium.

g. You must not ignite a campfire outside the confines of a fire pan or other container. All ashes and unburned fuel from campfires may be disposed of in a small pit excavated with hand tools as long as the material being disposed of is mostly ash. You must not dispose of non-flammable materials in a fire on public lands. BLM may authorize large bonfires, which would go beyond the limit of a fire pan, by permit on a case-by-case basis.

h. You must not operate a motorized vehicle in excess of the posted speed limit on any maintained roadway within the SRMA.

i. You must not operate a motorized vehicle in excess of 15 m.p.h. off of established or maintained roadways within 50 feet of any animals, people, or vehicles.

j. You must not operate or use any audio device, including, but not limited to, a radio, television, musical instrument, other noise producing device, or motorized equipment between the hours of 10 p.m. and 6 a.m. in a manner that makes unreasonable noise that disturbs other visitors.

k. You must not operate an off-highway vehicle without a properly installed spark arrestor.

l. You must not use or possess any man-made ramp or jump, for the purposes of performing acrobatic or aerial stunts.

m. You must not enter, camp, park or stay longer than one half hour within the SRMA without properly paying required permit fees. Permits must be purchased and visibly displayed in the windshield of all primary vehicles with the date side facing out.

n. You must not camp or use motorized vehicles within 200 feet of any perennial water source or impoundment.

Sec. 3 Penalties

Any person who violates any of these supplementary rules may be tried before a United States Magistrate and fined no more than $1,000 or imprisoned for no more than 12 months, or both. 43 U.S.C. 1733(a); 43 CFR 8360.0-7. Such violations may also be subject to the enhanced fines provided for by 18 U.S.C. 3571.

Dated: June 15, 2005.
Sally Wisely,
State Director.

[FR Doc. 05-17507 Filed 9-1-05; 8:45 am]

BILLING CODE 4310-DK-P